DEPARTMENT OF THE TREASURY

Internal Revenue Service

Open Meeting of the Taxpayer Advocacy Panel Earned Income Tax Credit Issue Committee

AGENCY: Internal Revenue Service (IRS), Treasury.

ACTION: Notice of meeting.

SUMMARY: An open meeting of the Taxpayer Advocacy Panel Earned Income Tax Credit Issue Committee will be conducted. The Taxpayer Advocacy Panel is soliciting public comments, ideas and suggestions on improving customer service at the Internal Revenue Service.

DATES: The meeting will be Friday, September 25, 2009 and Saturday, September 26, 2009.

FOR FURTHER INFORMATION CONTACT: Audrey Y. Jenkins at 1-888-912-1227 or 718-488-2085.

SUPPLEMENTARY INFORMATION: Notice is hereby given pursuant to section 10(a)(2) of the Federal Advisory Committee Act, 5 U.S.C. App. (1988) that an open meeting of the Taxpayer Advocacy Panel Earned Income Tax Credit Issue Committee will be held Friday, September 25, 2009, 8:30 a.m. to 5 p.m. and Saturday, September 26, 2009, 8 a.m. to 12 p.m. Eastern Time in Brooklyn, NY. The public is invited to make oral comments or submit written statements for consideration. Notification of intent to participate must be made with Audrey Y. Jenkins. For more information please contact Ms. Jenkins at 1-888-912-1227 or 718-488-2085, or write TAP Office, 10 MetroTech Center, 625 Fulton Street, Brooklyn, NY 11201, or contact us at the Web site: http://www.improveirs.org.

The agenda will include various IRS issues.

Dated: July 30, 2009
Shawn F. Collins,
Acting Director, Taxpayer Advocacy Panel.

[FR Doc. E9-18779 Filed 8-5-09; 8:45 am]

BILLING CODE 4830-01-P